DEPARTMENT OF HEALTH AND HUMAN SERVICES

[Document Identifier: OS-0990-New]

Agency Information Collection Request: 60-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before April 9, 2019.

ADDRESSES: Submit your comments to Sherrette.Funn@hhs.gov or by calling (202) 795-7714.

FOR FURTHER INFORMATION CONTACT: When submitting comments or requesting information, please include the document identifier 0990-New-60D and project title for reference, to Sherrette.funn@hhs.gov, or call the Reports Clearance Officer.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Cross-site Study Data for Improving Implementation Evaluation among Office of Adolescent Health (OAH) TPP Grantees to inform National Implementations (IMAGIN).

Type of Collection: New.

OMB No.: 0990-NEW—Office of Adolescent Health—OASH-OS.

Abstract: The Office of Adolescent Health (OAH), U.S. Department of Health and Human Services (HHS) is requesting 3 years of approval by OMB on a new collection. The IMAGIN Cross-Site Study will examine the process that federal grantees follow to get their programs and staff ready for full implementation by exploring specific factors related to the program models' readiness for implementation and evaluation, the grantee organizations' capacity to operate and deliver the program as intended, and the local enabling context. The data from this study will be used to identify meaningful lessons, targeted resources, and timely guidance that could help both current and future federal grantees get their programs ready to implement, and add to the evidence on the successes and challenges of implementing a program. The cross-site study will be conducted with leadership, key program staff and community stakeholders from Fiscal Year 2018 and Fiscal Year 2019, if awarded, grantees of the OAH Teen Pregnancy Prevention Program. It will include semi-structured interviews with grantee leadership, site visits that will include in-person discussions with key program staff and community stakeholders and a front-line staff web survey with up to 8 front line staff per grantee.

Annualized Burden Hour Table
Forms (if necessary) | Respondents (if necessary) | Number of respondents | Number of responses per respondents | Average burden per response | Total burden hours
Grantee Leadership Staff Interview Topic Guide: Initial | Grantee leadership staff | 15 | 1 | 90/60 | 22
Grantee Leadership Staff Interview Topic Guide: Follow-up | Grantee leadership staff | 15 | 1 | 1 | 15
Key Program Staff Interview topic guide | Front line staff and supervisors | 47 | 1 | 1 | 47
Community Stakeholder Interview Topic Guide | Key community stakeholders | 9 | 1 | 45/60 | 7
Frontline Staff Survey | Frontline staff | 117 | 1 | 30/60 | 59
Total |  |  | 5 |  | 150

Terry Clark,
Office of the Secretary, Paperwork Reduction Act Reports Clearance Officer.

[FR Doc. 2019-01597 Filed 2-7-19; 8:45 am]

BILLING CODE 4168-11-P